DEPARTMENT OF HEALTH AND HUMAN SERVICES

National Institutes of Health

Proposed Collection; Comment Request; Agricultural Health Study—A Prospective Cohort Study of Cancer and Other Diseases Among Men and Women in Agriculture

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: Agricultural Health Study—A Prospective Cohort Study of Cancer and Other Diseases Among Men and Women in Agriculture.

Type of Information Collection Request: Revision (OMB) 0925-0406, expiration 11/31/01).

Need and Use of Information Collection: The Agricultural Health Study is in its third year of follow-up data collection on a prospective cohort of 89,189 farmers, their spouses, and commercial applicators of pesticides from Iowa and North Carolina. Follow-up is not yet complete; an additional two years of followup is being requested.

Frequency of Response: Single time reporting.

Affected Public: Individuals or households, Farms.

Type of Respondents: Private pesticide applicators and their spouses.

The annual reporting burden is as follows:

Estimated Number of Respondents: 21,999.

Estimated Number of Responses per Respondent: 1.0.

Average Burden Hours Per Response: 1.66.

Estimated Total Annual Burden Hours Requested: 13,156.

The annualized cost to respondents is estimated at: $131,544. There are no Capital Costs to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Comments Due Date

Comments regarding this information collection are best assured of having their full effect if received on or before August 13, 2001.

FOR FURTHER INFORMATION CONTACT: To request more information on the proposed project or to obtain a copy of the data collection plans and instruments, contact Michael C.R. Alavanja, Dr. P.H., Division of Epidemiology and Genetics, National Cancer Institute, Executive Plaza South, Suite 8000, 6120 Executive Boulevard, Rockville, MD 20852, or call non-toll free (301) 435-4720, or E-mail your request, including your address to: alavanjam@mail.nih.gov.

Dated: June 5, 2001.
Reesa Nichols,
NCI Project Clearance Liaison.

[FR Doc. 01-14785 Filed 6-11-01; 8:45 am]

BILLING CODE 4140-01-M